INSTITUTE OF PEACE

Announcement of the 2001 Solicited Grant Topics

AGENCY: Institute of Peace.

ACTION: Notice.

SUMMARY: The agency is soliciting applications for its 2001 Solicited Grant Competition. The 2001 themes/topics are:

• Solicitation A: Post-Conflict Peacebuilding.

• Solicitation B: Asia-Pacific.

• Solicitation C: The Balkans.

• Solicitation D: Training.

DATES: Application material available upon request. Receipt date for solicited grant applications: December 29, 2000. Notification of awards: April 2000.

ADDRESSES: For Application Package: United States Institute of Peace, Grant Program—Solicited Grants, 1200 17th Street, NW, Ste. 200, Washington, DC 20036-3011. (202) 429-6063 (fax)—(202 429-1719 (TTY), e-mail: grant_program@usip.org.

FOR FURTHER INFORMATION CONTACT: The Grant Program; phone (202)-429-3842.

Dated: August 29, 2000.
Bernice J. Carney,
Director, Office of Administration.

[FR Doc. 00-22643 Filed 9-1-00; 8:45 am]

BILLING CODE 3155-01-M